DEPARTMENT OF EDUCATION

Office of Special Education and Rehabilitative Services; List of Correspondence

AGENCY: Department of Education.

ACTION: List of Correspondence from October 1, 2004 through December 31, 2004.

SUMMARY: The Secretary is publishing the following list pursuant to section 607(d) of the Individuals with Disabilities Education Act, as amended (IDEA). Under section 607(d) of the IDEA, the Secretary is required, on a quarterly basis, to publish in the Federal Register a list of correspondence from the Department of Education received by individuals during the previous quarter that describes the interpretations of the Department of Education (Department) of the IDEA or the regulations that implement the IDEA.

FOR FURTHER INFORMATION CONTACT: Melisande Lee or JoLeta Reynolds. Telephone: (202) 245-7459 (press 3).

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from October 1, 2004 through December 31, 2004.

Included on the list are those letters that contain interpretations of the requirements of the IDEA and its implementing regulations, as well as letters and other documents that the Department believes will assist the public in understanding the requirements of the law and its regulations. The date of and topic addressed by a letter are identified, and summary information is also provided, as appropriate. To protect the privacy interests of the individual or individuals involved, personally identifiable information has been deleted, as appropriate. Pursuant to the effective dates set forth in section 302 of the Individuals with Disabilities Education Improvement Act of 2004 (the Act), which amended and reauthorized the IDEA, the changes in IDEA that were made by the Act, with certain enumerated exceptions, will take effect on July 1, 2005. Accordingly, statutory citations in this list, as well as those contained in the letters referenced in this list, refer to the provisions of the IDEA that were in effect at the time the letters were issued.

Part A, General Provision

Section 605—Acquisition of Equipment; Construction or Alteration of Facilities

Topic Addressed: Construction or alteration of facilities.

○ Letter dated October 25, 2004 to Commonwealth of the Northern Mariana Islands Commissioner of Education Rita Hocog Inos, regarding the general principles for determining whether expenditures for construction of new facilities or alteration of existing facilities are allowable under the IDEA.

Part B—Assistance for Education of All Children With Disabilities

Section 611—Authorization; Allotment; Use of Funds; Authorization of Appropriations

Topic Addressed: Use of funds.

○ Letter dated November 10, 2004 to New Hampshire Disabilities Rights Center Executive Director Richard A. Cohen, regarding the use of grants to local educational agencies (LEAs) for capacity building and improvement and funds retained by the State for State level activities to pay for expenses related to statewide assessments for grades three, six, and ten.

Topic Addressed: Part B Grant Awards.

○ OSEP memorandum 05-01 dated October 1, 2004 to Chief State School Officers and State Directors of Special Education, transmitting additional Part B Grant Awards under Section 611 of IDEA that became available on October 1, 2004 and clarifying that any special conditions that applied to Part B funds that became available on July 1, 2004 also apply to these additional funds.

Section 612—State Eligibility

Topic Addressed: Free appropriate public education.

○ Letter dated November 3, 2004 to Advocate Louis H. Geigerman, regarding the provision of physical therapy and occupational therapy as a related service for students with disabilities under Part B of IDEA.

Topic Addressed: Local educational agency compliance.

○ Letter dated October 28, 2004 to Interim Illinois State Superintendent of Education Randy J. Dunn, regarding (1) procedures that a State educational agency (SEA) must follow in withholding funds under Part B of IDEA from an LEA or State agency that is not in compliance with a requirement of Part B of IDEA, including the right of the affected LEA or State agency to a hearing before the SEA terminates funds, and (2) how an SEA can satisfy its obligation to provide direct services to students with disabilities under Part B of IDEA.

Topic Addressed: State educational agency general supervisory authority.

○ Letter dated December 20, 2004 to New Jersey Commissioner of Education William L. Librera, reiterating the Department's position that the New Jersey Department of Education must afford parents of children with disabilities living in New Jersey and attending school in New York under a contract between New Jersey and New York school districts access to New Jersey's due process procedures and clarifying applicable procedures if parents request changes to educational programs for children with disabilities who live in New Jersey and attend school in New York.

Section 614—Evaluations, Eligibility Determinations, Individualized Education Programs, and Educational Placements

Topic Addressed: Individualized education programs.

○ Letter dated December 15, 2004 to Utah State Director of Special Education Karl A. Wilson, responding to the State's interpretation of Utah State Office of Education Special Education Rule III.I.10, regarding documentation of accommodations necessary for students to have access to regular education, and clarifying that those accommodations must be included in the individualized education programs of students with disabilities who are eligible for services under Part B of IDEA.

Topic Addressed: Educational placements.

○ Letter dated November 3, 2004 to Ohio Attorney Helen S. Carroll, regarding grade level assignments for students with disabilities and clarifying that Part B of IDEA does not address whether a child has a right to experience each grade level in sequence.

Other Letters That Do Not Interpret the IDEA But May Be of Interest to Readers

Topic Addressed: Confidentiality.

○ Letter dated November 18, 2004 to Tennessee Department of Education Policy Analyst Matthew J. Pepper from Family Policy Compliance Office Director LeRoy S. Rooker, regarding the applicability of the Family Educational Rights and Privacy Act to the release of student level records to researchers and clarifying that education records, with the removal of all personally identifiable information, may be released without prior consent.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: March 11, 2005.
John H. Hager,
Assistant Secretary for Special Education and Rehabilitative Services.

[FR Doc. 05-5157 Filed 3-15-05; 8:45 am]

BILLING CODE 4000-01-P